DEPARTMENT OF THE INTERIOR

Bureau of Land Management

[NM-030-1430-ES; NMNM13030]

Termination of A Recreation and Public Purposes (R&PP) Classification and An Order Providing for Opening of Land; NM

AGENCY: Bureau of Land Management (BLM), Interior.

ACTION: Notice.

SUMMARY: This order terminates a BLM R&PP classification affecting 506.57 acres of public land near Las Cruces, New Mexico. This land will be opened to the public land laws generally, including the mining laws. The land has been and remains open to mineral leasing.

The land is described as follows:

New Mexico Principal Meridian

T. 23 S., R. 1 E.,

Sec. 29: Lots 6 to 10, inclusive, S½NE¼ and S½.

The area described contains 506.57 acres in Dona Ana County.

DATES: The termination/opening order is effective February 12, 2004.

ADDRESSES: Bureau of Land Management, Las Cruces Field Office, 1800 Marquess, Las Cruces, New Mexico 88005.

FOR FURTHER INFORMATION CONTACT: Angel Mayes, Realty Specialist, at the address above or by telephone at (505) 525-4376.

SUPPLEMENTARY INFORMATION: By virtue of the authority vested in the Secretary of the Interior by the R&PP Act of June 14, 1926, as amended (43 U.S.C. 869 et seq.), it is ordered as follows:

1. Pursuant to the regulations in 43 CFR 2091.7-1(b)(1) and the authority delegated by BLM Manual Section 1203 (43 FR 85), the classification decision of March 2,1985, which classified 506.57 acres of public land as suitable for recreation and public purposes under the Act of June 14, 1926, as amended (43 U.S.C. 869 et seq.), under Serial Number NMNM13030, is hereby revoked.

2. At 8 a.m. on February 12, 2004, the land will be opened to the operation of the public land laws generally, subject to valid existing rights, the provisions of existing withdrawals, other segregations of record, and the requirements of applicable law. All valid application received at or prior to 8 am on February 12, 2004, shall be considered as simultaneously filed at that time. Those received thereafter shall be considered in the order of filing.

3. At 8 a.m. on February 12, 2004, the land will be opened to location and entry under the United States mining laws, subject to valid existing rights; the provisions of existing withdrawals; other segregations of record; and the requirements of applicable law. Appropriation of any of the land described in this order under the general mining laws prior to the date and time of restoration is unauthorized. Any such attempted appropriation, including attempted adverse possession under 30 U.S.C. 38 (1988), shall vest no rights against the United States. State law governs acts required to establish a location and to initiate a right of possession where not in conflict with Federal law. BLM will not intervene in disputes between rival locators over possessory rights since Congress has provided for such determinations in local courts.

Dated: August 28, 2003.
Amy L. Lueders,
Field Manager, Las Cruces.

[FR Doc. 04-620 Filed 1-12-04; 8:45 am]

BILLING CODE 4310-VC-P